DEPARTMENT OF AGRICULTURE

Forest Service

Madera County Resource Advisory Committee

AGENCY: Forest Service, USDA.

ACTION: Notice of meeting.

SUMMARY: The Madera County Resource Advisory Committee will be meeting in North Fork, California on January 19th and January 26th 2011, and if necessary on February 2nd 2011. The purpose of these meetings will be to approve submitted proposals for funding as authorized under the Secure Rural Schools and Community Self-Determination Act of 2000 (Pub. L. 110-343) for expenditure of Payments to States Madera County Title II funds. The Madera County Resource Advisory Committee met on October 20th and on November 17th. The purposes of those meetings were to make decisions on how to accept and review project proposals for the next funding cycle.

DATES: The meetings will be held on January 19th and January 26th 2011, and if necessary on February 2nd, 2011, from 6:30 p.m. to 8:30 p.m. in North Fork, CA.

ADDRESSES: The meetings will be held at the Bass Lake Ranger District, 57003 Road 225, North Fork, California 93643. Send written comments to Julie Roberts, Madera County Resource Advisory Committee Coordinator, c/o Sierra National Forest, Bass Lake Ranger District, at the above address, or electronically to jaroberts@fs.fed.us.

FOR FURTHER INFORMATION CONTACT: Julie Roberts, Madera County Resource Advisory Committee Coordinator, (559) 877-2218 ext. 3159.

SUPPLEMENTARY INFORMATION: The meetings are open to the public. Committee discussion is limited to Forest Service staff and Committee members. However, persons who wish to bring Payments to States Madera County Title II project matters to the attention of the Committee may file written statements with the Committee staff before or after the meetings.

Dated: December 10, 2010.
Dave Martin,
District Ranger.

[FR Doc. 2010-31659 Filed 12-17-10; 8:45 am]

BILLING CODE 3410-11-M